DEPARTMENT OF JUSTICE

Antitrust Division

Notice Pursuant to the National Cooperative Research and Production Act of 1993—Open-IX Association

Notice is hereby given that, on December 3, 2013, pursuant to Section 6(a) of the National Cooperative Research and Production Act of 1993, 15 U.S.C. § 4301 et seq. (“the Act”), Open-IX Association (“Open-IX”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Open-IX Association, Cambridge, MA. The nature and scope of Open-IX's standards development activities are: to encourage the creation and development of, and the investment in, internet exchanges by developing minimum standards of performance and common and uniform specifications for incoming and outgoing data, as well as physical connectivity and the real estate which houses or on which the exchange is located; and to improve the performance of internet exchanges by developing criteria and methods of measurement, leading to the establishment of minimum criteria and methods for certifying the satisfaction of such criteria.

Patricia A. Brink,
Director of Civil Enforcement, Antitrust Division.

[FR Doc. 2013-31249 Filed 12-27-13; 8:45 am]

BILLING CODE P